DEPARTMENT OF AGRICULTURE

Submission for OMB Review; Comment Request

September 13, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 18, 2021 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Team Nutrition Database.

OMB Control Number: 0584-0642.

Summary of Collection: The collection of this information aims to help the mission of USDA's Team Nutrition initiative, which is to support national efforts to promote lifelong healthy food choices and physical activity by improving the nutrition practices of the Child Nutrition Programs. The collected information helps to build and maintain a stronger network among organizations participating in the Child and Adult Care Food Program (CACFP) and schools participating in the National School Lunch Program (NSLP) and School Breakfast Program (SBP) committed to providing healthy meals and environments for their program participants. It helps to keep these entities up-to-date with the available resources developed under the Team Nutrition initiative to support the nutrition standards of their respective Child Nutrition Programs. The Team Nutrition initiative of the United States Department of Agriculture's Food and Nutrition Service falls under SEC. 19. [42 U.S.C. 1788] TEAM NUTRITION NETWORK, Child Nutrition Act of 1966.

Need and Use of the Information: The purposes of the team nutrition network are—(1) to establish State systems to promote the nutritional health of school children of the United States through nutrition education and the use of team nutrition messages and material developed by the Secretary, and to encourage regular physical activity and other activities that support healthy lifestyles for children, including those based on the most recent Dietary Guidelines for Americans published under section 301 of the National Nutrition Monitoring and Related Research Act of 1990 (7 U.S.C. 5341); (2) to provide assistance to States for the development of comprehensive and integrated nutrition education and active living programs in schools and facilities that participate in child nutrition programs; (3) to provide training and technical assistance and disseminate team nutrition messages to States, school and community nutrition programs, and child nutrition food service professionals; (4) to coordinate and collaborate with other nutrition education and active living programs that share similar goals and purposes; and (5) to identify and share innovative programs with demonstrated effectiveness in helping children to maintain a healthy weight by enhancing student understanding of healthful eating patterns and the importance of regular physical activity.

Description of Respondents: State, Local, Tribal Governments, Private Sector (Businesses or other for-profits/Not-for-profit institutions.

Number of Respondents: 122,130.

Frequency of Responses: Reporting: Annually, Weekly.

Total Burden Hours: 35,484.

Ruth Brown,
Departmental Information Collection Clearance Officer.

[FR Doc. 2021-19983 Filed 9-15-21; 8:45 am]

BILLING CODE 3410-30-P